DEPARTMENT OF HEALTH AND HUMAN SERVICES

National Institutes of Health

National Institute on Minority Health and Health Disparities; Amended Notice of Meeting

Notice is hereby given of a change in the meeting of the National Institute on Minority Health and Health Disparities Special Emphasis Panel, June 29, 2023, 1:00 p.m. to 5:00 p.m., National Institutes of Health, NIMHD, DEM II, Suite 800, 6707 Democracy Boulevard, Bethesda, MD 20892, which was published in the Federal Register on April 24, 2023, FR Doc 2023-08557, 88 FR 24825.

This meeting notice is amended to change the meeting start time. The meeting will now be held from 11:00 a.m. to 5:00 p.m. on June 29, 2023. The meeting will be held as a virtual meeting and is closed to the public.

Dated: May 19, 2023.
Victoria E. Townsend,
Program Analyst, Office of Federal Advisory Committee Policy.

[FR Doc. 2023-11075 Filed 5-23-23; 8:45 am]

BILLING CODE 4140-01-P